ENVIRONMENTAL PROTECTION AGENCY

40 CFR Part 170

Worker Protection Standard

CFR Correction

In Title 40 of the Code of Federal Regulations, Parts 150 to 189, revised as of July 1, 2006, in § 170.112, on page 212, paragraph (a)(1) is corrected to read as follows:

§ 170.112 Entry restrictions.

(a) * * * (1) After the application of any pesticide on an agricultural establishment, the agricultural employer shall not allow or direct any worker to enter or to remain in the treated area before the restricted-entry interval specified on the pesticide labeling has expired, except as provided in this section.

* * * * *

[FR Doc. 07-55508 Filed 6-28-07; 8:45 am]

BILLING CODE 1505-01-D